LEGAL SERVICES CORPORATION

Notice of Revisions to Performance Area One of the LSC Performance Criteria

AGENCY: Legal Services Corporation.

ACTION: Request for comments.

SUMMARY: The Legal Services Corporation (LSC) proposes to revise Performance Area One of its Performance Criteria. In Performance Area One, LSC establishes the indicators that LSC will use to evaluate grant recipients' processes for identifying the most pressing and emerging legal needs in their service areas and determining how they will deliver legal services tailored to most effectively address those needs. LSC proposes to introduce a new criterion assessing strategic planning as well as to revise the existing criteria examining grant recipients' conduct of needs assessments, implementation of strategies to address legal needs, and self-examination of their effectiveness in delivering legal services.

DATES: Comments must be received by 11:59 p.m. Eastern on December 1, 2025.

ADDRESSES: You may send comments by any of the following methods:

• Email: performancearea1@lsc.gov. Include “Comments on Performance Area 1” in the subject line of the message.

• Mail: Legal Services Corporation, 1825 I Street NW, Suite 800, Washington, DC 20006, ATTN: Stefanie K. Davis, Deputy General Counsel, Comments on Performance Area 1.

• Hand Delivery/Courier: Legal Services Corporation, 1825 I Street NW, Suite 800, Washington, DC 20006, ATTN: Stefanie K. Davis, Deputy General Counsel, Comments on Performance Area 1.

FOR FURTHER INFORMATION CONTACT: Stefanie K. Davis, Deputy General Counsel, Legal Services Corporation, 1825 I Street NW, Suite 800, Washington, DC 20006, 202-295-1563, performancearea1@lsc.gov.

SUPPLEMENTARY INFORMATION: LSC introduced the Performance Criteria in 1994 as a tool to support both LSC's evaluation and grant recipients' self-evaluation of program quality. The Performance Criteria are structured into four Performance Areas. Each Performance Area is designed to allow users to evaluate a discrete aspect of a legal services organization's operations:

• Performance Area One establishes criteria for examining an LSC grant recipient's effectiveness in identifying the most pressing civil legal issues in its service area and directing resources toward addressing those needs.

• Performance Area Two establishes criteria for examining a grant recipient's effectiveness in engaging and serving the low-income population across its service area.

• Performance Area Three establishes criteria for examining the effectiveness of a grant recipient's legal representation and other activities designed to address the legal needs of the low-income population in its service area.

• Performance Area Four establishes criteria for examining the effectiveness of a grant recipient's governance structure, organizational leadership, and administration.

LSC last updated Performance Area One in 2007. At that time, LSC identified several factors driving the update. One was the “significant change and evolution in Legal Services programs around the country” caused by, among other factors, mergers, rapid developments in technology, and the restrictions placed on LSC grant recipients through its Fiscal Year 1996 appropriations act. Legal Services Corporation, Performance Criteria, 2007 Edition, pp. 1-2. LSC also identified significant changes in the demographic changes of the low-income population and the legal needs experienced by that population as a factor. Id. at 2. Finally, LSC observed that at the same time it was considering changes to the Performance Criteria, the American Bar Association (ABA) was revising its Standards for the Provision of Civil Legal Aid (ABA Standards). As a result, the 2007 revision to the Performance Criteria incorporated or referenced the ABA Standards where appropriate. Id.

LSC's goals for this update, which continue the theme of evolving standards in technology and the delivery of legal services, are threefold. First, LSC is introducing new indicators of quality and revising others to be more relevant to the current—and future—context of Federally funded legal aid. Second, LSC is simplifying and rewriting the Performance Criteria in plain English to make them more user friendly to LSC and grant recipient staff. Finally, where appropriate, LSC is revising the standards to maintain consistency with the 2021 revisions to the ABA Standards for the Provision of Civil Legal Services, particularly those Standards on the use of technology.

Overview of the Revisions: LSC proposes to significantly revise the titles, introductory text, Indicators of quality, and Areas of Inquiry for each Criterion in Performance Area One. In some cases, LSC proposes to introduce new Indicators, while in others LSC proposes to simplify and streamline existing Indicators. The changes are summarized below.

Criterion 1: Periodic Comprehensive Assessment and Ongoing Consideration of Legal Needs. LSC proposes to shorten the title of this Criterion to “Needs Assessment” and revise the Indicators and Areas of Inquiry to focus on how grant recipients assess the legal needs of the low-income populations within their service areas. The Indicators broadly describe the factors LSC has identified as critical to conducting a thorough, well-developed needs assessment. Indicators examine factors such as the number and types of methods grant recipients use to collect information; whether grant recipients considered the needs of demographic subpopulations in their communities; and the extent to which grant recipients considered the capacity of other organizations to address the most pressing legal needs of the low-income community. The Areas of Inquiry for each Indicator further break down into questions about discrete parts of the broader Indicator. For example, new Indicator 1 evaluates the frequency and regularity with which a grant recipient “conducts a comprehensive assessment of existing and emerging needs of low-income individuals and families within its service area.” The proposed Areas of Inquiry ask whether the grant recipient conducts such an assessment periodically; when the grant recipient conducted the most recent assessment; how the grant recipient determines when it should conduct the needs assessment; whether it has started planning for the next needs assessment; and whether the most recent assessment produced a “clear record of the most compelling existing and emerging legal needs of low-income individuals and families in the service area.”

Criterion 2: Setting Goals and Objectives, Developing Strategies, and Allocating Resources. LSC proposes to rename this criterion “Strategic Planning” and to focus the Indicators and Areas of Inquiry on how grant recipients develop their strategic plans. LSC has determined that a well-developed strategic plan should identify strategies tailored to address the most pressing legal needs identified by the needs assessment in a way that contributes to closing the Justice Gap. LSC proposes to either replace Indicators that do not contribute to examining how grant recipients develop their strategic plans or to relocate Indicators to more appropriate Criteria. For example, LSC proposes to relocate existing Indicator 8, relating to case acceptance policies, to proposed Criterion 3, which examines priorities and case acceptance. Other Indicators and Areas of Inquiry have been simplified and narrowed to focus on how grant recipients develop their strategic plans and goals.

Criterion 3: Implementation. LSC proposes to rename this Criterion “Priority Setting and Case Acceptance Policy.” Consistent with this renaming and building on the preceding Criteria, LSC intends for this Criterion to examine the extent to which grant recipients' priorities and case acceptance policies effectuate the goals in their strategic plans. The Indicators and Areas of Inquiry cross-reference Criteria 1 and 2 and have been rewritten into plain English.

Criterion 4: Evaluation and Adjustment. LSC proposes to shorten the title of this Criterion to “Evaluation.” LSC proposes to simplify and revise the Indicators in this Criterion to focus on grant recipients' processes for examining how well their service delivery model is meeting the goals stated in their strategic plans; whether strategic plans are agile enough to adjust to changes in the legal services delivery ecosystem, such as large variances in the availability of resources or unanticipated changes to the most pressing legal issues experienced by the populations in grantees' service areas; and whether the grant recipients' priorities are expressed in terms of outcomes that can be measured or assessed, thus allowing grant recipients to allocate resources as needed to achieve the proposed outcomes.

LSC is publishing the proposed revisions to Performance Area One on the Matters for Comment page of its website: www.lsc.gov/matters-comment. LSC is providing a 60-day period for interested parties and stakeholders to submit comments.

(Authority: 42 U.S.C. 2996g(e).)

Dated: September 29, 2025.
Stefanie Davis,
Deputy General Counsel.

[FR Doc. 2025-19245 Filed 10-1-25; 8:45 am]

BILLING CODE 7050-01-P